DEPARTMENT OF THE INTERIOR

Fish and Wildlife Service

St. Catherine Creek National Wildlife Refuge

AGENCY: Fish and Wildlife Service, Interior.

ACTION: Notice of availability of the final Comprehensive Conservation Plan and Finding of No Significant Impact for St. Catherine Creek National Wildlife Refuge in Adams and Wilkinson Counties, Mississippi.

SUMMARY: The Fish and Wildlife Service announces that a Final Comprehensive Conservation Plan and Finding of No Significant Impact for St. Catherine Creek National Wildlife Refuge are available for distribution. The plan was prepared pursuant to the National Wildlife Refuge System Improvement Act of 1997, and in accordance with the National Environmental Policy Act of 1969, and describes how the refuge will be managed over the next 15 years.

ADDRESSES: A plan may be obtained by calling Randy Breland, Refuge Manager, at 601/442-6696; or by writing to the Refuge Manager, St. Catherine Creek National Wildlife Refuge, 76 Pintail Lane, Natchez, Mississippi 39120. The plan may also be accessed and downloaded from the Service's Internet Web site at http://southeast.fws.gov/planning/.

SUPPLEMENTARY INFORMATION: The availability of the draft comprehensive conservation plan and environmental assessment for a 45-day review period was announced in the Federal Register on November 3, 2005 (70 FR 66845). The draft plan and environmental assessment evaluated four alternatives for managing the refuge. Alternative D was chosen as the preferred alternative. The preferred alternative will promote a greater understanding and protection of fish, wildlife, and their habitats, and quality, balanced recreational opportunities for visitors. Hunting and fishing will continue with greater emphasis on the quality of the experience. Education and interpretation will be promoted with regular programs and partnerships with local schools. Wildlife observation and photography opportunities will be expaned, including a birding trail and observation tower. A new visitor center and headquarters office will be constructed with space for interpretation, environmental education, and staff.

Research studies on the refuge will be fostered and partnerships developed with other agencies and universities, providing needed resources and experiment sites, while meeting the needs of the refuge's wildlife and habitat management programs. Research will also benefit efforts throughout southwest Mississippi to conserve, enhance, restore, and manage native habitat. New surveys on birds, reptiles, and amphibians will be initiated to develop baseline information.

Additional staff will include administrative, biological, and outreach personnel to accomplish objectives for establishing baseline data on refuge resources, managing habitats, providing opportunities and facilities for wildlife observation and photography, providing educational programs that promote a greater understanding of refuge resources, and protecting natural and cultural resources and refuge visitors.

Under this alternative, the refuge will continue to seek acquisition of lands within the present acquisition boundary. Lands acquired as part of the refuge will be made available for compatible wildlife-dependent recreation and environmental education opportunities, where appropriate. Lands that provide high-quality habitat and connectivity to existing refuge lands will be priority acquisitions. Equally important acquisition tools to be used include: transfer lands, partnerships with conservation organizations, conservation easements with adjacent landowners, and leases/cooperative agreements with state agencies.

Public comments were requested, considered, and incorporated throughout the planning process in numerous ways. Public outreach included open houses, public meetings, technical workgroups, planning update mailings, and Federal Register notices. During the draft comprehensive conservation plan/environmental assessment comment period, the Service received several comments, which were incorporated, when appropriate, and responded to in the comprehensive conservation plan.

Authority: This notice is published under the authority of the National Wildlife Refuge System Improvement Act of 1997, Public Law 105-57.

Dated: February 22, 2006.
Cynthia K. Dohner,
Acting Regional Director.

Editorial Note: This document was received at the Office of the Federal Register on August 29, 2006.

[FR Doc. 06-7381 Filed 8-31-06; 8:45 am]

BILLING CODE 4310-55-M